DEPARTMENT OF HOMELAND SECURITY

U.S. Citizenship and Immigration Services

Agency Information Collection Activities: Form I-612, Extension of an Existing Information Collection; Comment Request

ACTION: 30-day notice of information collection under review: Form I-612, Application for Waiver of the Foreign Residence Requirement of Section 212(e) of the Immigration and Nationality Act; OMB Control No: 1615-0030.

The Department of Homeland Security, U.S. Citizenship and Immigration Services (USCIS) has submitted the following information collection request to the Office of Management and Budget (OMB) for review and clearance in accordance with the Paperwork Reduction Act of 1995. The information collection was previously published in the Federal Register on January 26, 2009, at 74 FR 4446, allowing for a 60-day public comment period. USCIS did not receive any comments.

The purpose of this notice is to allow an additional 30 days for public comments. Comments are encouraged and will be accepted until May 8, 2009. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Management Division, Clearance Office, 111 Massachusetts Avenue, Washington, DC 20529-2210. Comments may also be submitted to DHS via facsimile to 202-272-8352 or via e-mail at rfs.regs@dhs.gov, and to the OMB USCIS Desk Officer via facsimile at 202-395-6974 or via e-mail at oira_submission@omb.eop.gov.

When submitting comments by e-mail please make sure to add OMB Control Number 1615-0030 in the subject box. Written comments and suggestions from the public and affected agencies should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of Information Collection: Extension of an existing information collection.

(2) Title of the Form/Collection: Application for Waiver of the Foreign Residence Requirement of Section 212(e) of the Immigration and Nationality Act.

(3) Agency Form Number, if Any, and the Applicable Component of the Department of Homeland Security Sponsoring the Collection: Form I-612. U.S. Citizenship and Immigration Services.

(4) Affected Public Who Will Be Asked or Required To Respond, as Well as Brief Abstract: Primary: Individuals or households. This form will be used by USCIS to determine eligibility for a waiver.

(5) An Estimate of the Total Number of Respondents and the Amount of Time Estimated for an Average Respondent To Respond: 1,300 responses at 20 minutes (.333) per response.

(6) An Estimate of the Total Public Burden (in Hours) Associated With the Collection: 433 annual burden hours.

If you have additional comments, suggestions, or need a copy of the information collection instrument, please visit the USCIS Web site at: http://www.regulations.gov/fdmspublic/component/main.

We may also be contacted at: USCIS, Regulatory Management Division, 111 Massachusetts Avenue, NW.,Washington, DC 20529-2210, telephone number 202-272-8377.

Dated: April 2, 2009.
Stephen Tarragon,
Deputy Chief, Regulatory Management Division, U.S. Citizenship and Immigration Services, Department of Homeland Security.

[FR Doc. E9-7874 Filed 4-7-09; 8:45 am]

BILLING CODE 9111-97-P